DEPARTMENT OF TRANSPORTATION

Surface Transportation Board

[STB Docket No. AB-459 (Sub-No. 3X)]

The Central Railroad Company of Indiana—Discontinuance of Service Exemption—in Decatur County, IN

The Central Railroad Company of Indiana (CIND) has filed a verified notice of exemption under 49 CFR part 1152 subpart F—Exempt Abandonments and Discontinuances of Service to discontinue service over a 2.6-mile line of railroad between milepost 64.67 and milepost 67.27, near Greenburg, in Decatur County, IN. The line traverses United States Postal Service Zip Code 47240.

CIND has certified that: (1) No local traffic has moved over the line for at least 2 years; (2) any overhead traffic can be rerouted over other lines; (3) no formal complaint filed by a user of rail service on the line (or by a State or local government entity acting on behalf of such user) regarding cessation of service over the line either is pending with the Surface Transportation Board (Board) or with any U.S. District Court or has been decided in favor of complainant within the 2-year period; and (4) the requirements at 49 CFR 1105.12 (newspaper publication), and 49 CFR 1152.50(d)(1) (notice to governmental agencies) have been met.¹

¹ Because this is a discontinuance of service proceeding and not an abandonment, the proceeding is exempt from the requirements of 49 CFR 1105.7 (environmental reports), 49 CFR 1105.8 (historic reports), and 49 CFR 1105.11 (transmittal letter).

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on October 20, 2006,² unless stayed pending reconsideration. Petitions to stay and formal expressions of intent to file an OFA under 49 CFR 1152.27(c)(2) ³ must be filed by October 2, 2006. Petitions to reopen must be filed by October 10, 2006, with the Surface Transportation Board, 1925 K Street, NW., Washington, DC 20423-0001.

² Because this is a discontinuance proceeding, trail use/rail banking and public use conditions are not applicable.

³ Each OFA must be accompanied by the filing fee, which was increased to $1,300 effective on April 19, 2006. See Regulations Governing Fees for Services Performed in Connection with Licensing and Related Services-2006 Update, STB Ex Parte No. 542 (Sub-No. 13) (STB served Mar. 20, 2006).

A copy of any petition filed with the Board should be sent to applicant's representative: Louis E. Gitomer, 600 Baltimore Avenue, Suite 301, Towson, MD 21204.

If the verified notice contains false or misleading information, the exemption is void ab initio.

Board decisions and notices are available on our Web site at “WWW.STB.DOT.GOV.”

Decided: September 12, 2006.
By the Board, David M. Konschnik, Director, Office of Proceedings.
Vernon A. Williams,
Secretary.

[FR Doc. E6-15512 Filed 9-19-06; 8:45 am]

BILLING CODE 4915-01-P